DEPARTMENT OF LABOR

Employment and Training Administration

Proposed Collection Request Submitted for Public Comment and Recommendations; The Supplemental Survey on Unemployment Insurance Non-Filers

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to insure that requested data can be provided in the desired format; reporting burden (time and financial resources) is minimized; collection instruments are clearly understood; and the impact of collection on respondents can be properly assessed. Currently, the Employment and Training Administration (ETA) is soliciting comments concerning the proposed new collection of survey data on unemployment insurance (UI) non-filers as part of the evaluation of the UI program. A copy of the proposed information collection request (ICR) can be obtained by contacting the office listed below in the address section of this notice.

DATES: Submit on or before October 18, 2004.

ADDRESSES: Send comments to: Janet Javar, U.S. Department of Labor, Employment and Training Administration/Office of Policy Development, Evaluation and Research, Room N-5637, 200 Constitution Avenue, NW., Washington, DC 20210; (202) 693-3677 (this is not a toll-free number); javar.janet@dol.gov; Fax: (202) 693-2766 (this is not a toll-free number).

FOR FURTHER INFORMATION CONTACT: Janet Javar, U.S. Department of Labor, Employment and Training Administration/Office of Policy Development, Evaluation and Research, Room N-5637, 200 Constitution Avenue, NW., Washington, DC 20210; (202) 693-3677 (this is not a toll-free number); javar.janet@dol.gov; Fax: (202) 693-2766 (this is not a toll-free number).

SUPPLEMENTARY INFORMATION:

Background

ETA plans to request clearance for the collection of data via a Supplemental Survey of Unemployment Insurance Non-Filers to be conducted in conjunction with the January 2005, May 2005, July 2005, and November 2005 Current Population Survey (CPS). Through an interagency agreement between ETA and the Census Bureau, the Census Bureau will administer the supplement with the CPS. Title 13, United States Code, Section 182, and Title 29, United States Code, Sections 1-9, authorize the collection of survey data by the Census Bureau. The Supplemental Survey of Unemployment Insurance Non-Filers is sponsored by ETA. This supplement is being conducted under the authority of Sections 171(c), 172(b), 189(c), 189(e) [29 U.S.C. 2916(c)(2), 2917(b) and 2939(c) & (e)] of the Workforce Investment Act of 1998.

ETA collaborated with the Census Bureau and the Bureau of Labor Statistics on two earlier UI non-filer supplements conducted with the CPS: The first supplement was conducted in late 1989 and early 1990 (OMB Number 1220-0122 Expired March 31, 1990), and the second was conducted in 1993 (OMB Number 1220-0122 Expired January 31, 1994). This supplement will update ETA's knowledge about how often and why unemployed individuals choose not to apply for unemployment benefits. Analysis from the survey data will be used by the Department of Labor to help improve the UI system.

Desired Focus of Comments

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed ICR can be obtained by contacting the office listed above in the addressee section of this notice.

Current Actions

The UI information will be collected by both personal visit and telephone interviews in conjunction with the regular CPS interviewing during January, May, July, and November 2005. All interviews are conducted using computer-assisted interviewing. Respondents are informed that this is a voluntary survey.

Type of Review: New.

Agency: Employment and Training Administration.

Title: The Supplemental Survey of Unemployment Insurance Non-Filers.

Agency Number: 1205-0NEW.

Affected Public: Households.

Estimated Number of Respondents: 6,000 (total for all 4 months).

Estimated Time Per Response: 1 minute.

Estimated Total Annual Burden Hours: 100.

Total Burden Cost (capital/startup): $0.

Total Burden Cost (operating/maintaining): $0.

Comments submitted in response to this comment request will be summarized and/or included in the request for OMB approval of the information request; they will also become a matter of public record.

Dated: August 12, 2004.
Emily Stover DeRocco,
Assistant Secretary for Employment and Training.

[FR Doc. 04-18916 Filed 8-17-04; 8:45 am]

BILLING CODE 4510-30-P